SMALL BUSINESS ADMINISTRATION

[License No. 05/05-0351]

Stonehenge Opportunity Fund V, L.P.; Notice Seeking Exemption Under Section 312 of the Small Business Investment Act, Conflicts of Interest

Notice is hereby given that Stonehenge Opportunity Fund V, L.P., 191 W Nationwide Boulevard, Suite 600, Columbus, OH 43215, a Federal Licensee under the Small Business Investment Act of 1958, as amended (“the Act”), in connection with the financing of a small business concern, has sought an exemption under section 312 of the Act and 13 CFR 107.730, Financings which Constitute Conflicts of Interest of the Small Business Administration (“SBA”) Rules and Regulations. Stonehenge Opportunity Fund V, L.P. is seeking a written exemption from SBA for a proposed financing to True North Asphalt Holdings, LLC, 1241 E 11 Mile Road, Madison Heights, MI 48071.

The financing is brought within the purview of 13 CFR 107.730(a) of the Regulations because True North Asphalt Holdings, LLC is an Associate of Stonehenge Opportunity Fund V, L.P. because Associate Stonehenge Opportunity Fund IV, L.P. owns a greater than ten percent interest in True North Asphalt Holdings, LLC, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

Bailey DeVries,
Associate Administrator, Office of Investment and Innovation, United States Small Business Administration.

[FR Doc. 2024-00009 Filed 1-4-24; 8:45 am]

BILLING CODE P